DEPARTMENT OF DEFENSE

Department of the Navy

[Docket ID: USN-2026-HQ-0036]

Proposed Collection; Comment Request

AGENCY: Department of the Navy, Department of Defense (DoD).

ACTION: 60-Day information collection notice.

SUMMARY: In compliance with the Paperwork Reduction Act of 1995, the United States Marine Corps (USMC) announces the proposed extension of an approved public information collection and seeks public comment on the provisions thereof. Comments are invited on: whether the collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AR Division, Headquarters Marine Corps, 3000 Marine Corps., Pentagon Rm. 2B253, ATTN: Mr. Michael Moon, or call 703-571-7134.

SUPPLEMENTARY INFORMATION:

Title; Associated Form; and OMB Number: Camp Lejeune Notification Database; OMB Control Number 0712-0011.

Needs and Uses: The USMC is collecting this information to identify and notify individuals who may have been exposed to contaminated drinking water at Marine Corps Base Camp Lejeune between 1953 and 1987. This collection is necessary to comply with Section 315 of the 2008 Defense Authorization Act (Pub. L. 110-181), which mandates that the Secretary of the Navy notify all persons, including residents and workers, who were potentially affected.

The information is used to build and maintain the Camp Lejeune Notification Database. The Marine Corps uses this database to send an official notification letter and provide registrants with current information and research updates. The collected information may also be used by federal health agencies, such as the Department of Veteran Affairs and the Agency for Toxic Substances and Diseases Registry, to assist with future health studies related to the exposure.

The respondents are former residents and workers of Camp Lejeune during the specified timeframe who voluntarily register for the database via the official website, email, or a toll-free number. Without this information collection, the Marine Corps would be unable to fulfill its legal obligation to directly contact and inform this population about their potential exposure and related health information.

Affected Public: Individuals or households.

Annual Burden Hours: 1,000.

Number of Respondents: 10,000.

Responses per Respondent: 1.

Annual Responses: 10,000.

Average Burden per Response: 6 minutes.

Frequency: On occasion.

Dated: February 9, 2026.
Stephanie J. Bost,
Alternate OSD Federal Register Liaison Officer, Department of Defense.

[FR Doc. 2026-02734 Filed 2-10-26; 8:45 am]

BILLING CODE 6001-FR-P